DEPARTMENT OF TRANSPORTATION

Federal Aviation Administration

14 CFR Part 71

[Docket No. FAA-2007-0092; Airspace Docket No. 07-AAL-18]

Establishment of Colored and VOR Federal Airways; Alaska

AGENCY: Federal Aviation Administration (FAA), DOT.

ACTION: Final rule.

SUMMARY: This action establishes four Federal airways in the National Airspace System (NAS) to replace four non-part 95 routes in Alaska. The routes consist of three Very High Frequency Omnidirectional Range (VOR) Federal airways, and one Low/Medium Frequency (L/MF) Colored Federal airway in Alaska. The conversion of these non-part 95 routes would change uncharted nonregulatory airways requiring special aircrew authorization to Federal Airways, thus adding to the instrument flight rules (IFR) airway and route infrastructure in Alaska. The addition of these routes improves the management of air traffic operations and thereby enhances safety. A minor change to the description of V-619 also is being made.

DATES: Effective Date: 0901 UTC, September 25, 2008. The Director of the Federal Register approves this incorporation by reference action under 1 CFR part 51, subject to the annual revision of FAA Order 7400.9 and publication of conforming amendments.

FOR FURTHER INFORMATION CONTACT: Ken McElroy, Airspace and Rules Group, Office of System Operations Airspace and AIM, Federal Aviation Administration, 800 Independence Avenue, SW., Washington, DC 20591; telephone: (202) 267-8783.

SUPPLEMENTARY INFORMATION:

History

On March 25, 2008, the FAA published in the Federal Register a notice of proposed rulemaking (NPRM) to establish four Federal Airways in Alaska (73 FR 15685). Interested parties were invited to participate in this rulemaking effort by submitting written comments on this proposal. No comments were received in response to the NPRM. Based on further analysis of Air Traffic Control requirements, this rule incorporates the inclusion of two additional intersections along V-619. The description of V-619 will include the intersections of the Port Heiden 044° radial and the Saldo 200° radial and the Dillingham 099° radial. With the exception of editorial changes, and the change described above, this amendment is the same as that proposed in the NPRM.

Colored Federal airways and VOR Federal airways are published in paragraph 6009 and 6010, respectively, of FAA Order 7400.9R signed August 15, 2007 and effective September 15, 2007, which is incorporated by reference in 14 CFR 71.1. The Colored Federal airways and VOR Federal airways listed in this document will be published subsequently in the Order.

The Rule

This action amends Title 14 Code of Federal Regulations (14 CFR) part 71 by establishing three VOR Federal airways designated V-351, V-414, V-619 and one Colored Federal airway designated Amber 6 (A-6), in Alaska. The FAA is taking this action for the following reasons: (1) The conversion of these uncharted nonregulatory routes to Federal airways adds to the IFR airway and route infrastructure in Alaska; (2) pilots will be provided with minimum en route altitudes and minimum obstruction clearance altitude information; (3) this amendment establishes controlled airspace, thus eliminating some of the commercial IFR operations in uncontrolled airspace; and (4) the addition of these routes improves the management of air traffic operations and thereby enhances safety.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in subtitle VII, part A, subpart I, section 40103. Under that section, the FAA is charged with prescribing regulations to assign the use of airspace necessary to ensure the safety of aircraft and the efficient use of airspace. This regulation is within the scope of that authority as it will enhance aviation safety in the state of Alaska.

Environmental Review

The FAA has determined that this action qualifies for categorical exclusion under the National Environmental Policy Act in accordance with FAA Order 1050.1E, Environmental Impacts: Polices and Procedures. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9R, Airspace Designations and Reporting Points, signed August 15, 2007, and effective September 15, 2007, is amended as follows:

Paragraph 6009(c) Amber Federal Airways.

* * * * *

A-6 [New]

St. Marys, AK, NDB; to North River, AK, NDB

* * * * *

Paragraph 6010(b) VOR Federal Airways.

* * * * *

V-351 [New]

From Port Heiden, AK, NDB/DME; to Dillingham, AK, VOR/DME

* * * * *

V-619 [New]

From Port Heiden, AK, NDB/DME; via the INT of Port Heiden, AK, NDB/DME 044° and Saldo, AK, NDB 200° bearings; to Saldo, AK, NDB; to the Dillingham, AK, VOR/DME 099° radial/47° DME; to Dillingham, AK, VOR/DME

* * * * *

V-414 [New]

From Gambell, AK, NDB/DME; to Kukuliak, AK, VOR/DME

* * * * *

Issued in Washington, DC, on July 2, 2008.
Kenneth McElroy,
Acting Manager, Airspace and Rules Group.

[FR Doc. E8-15934 Filed 7-15-08; 8:45 am]

BILLING CODE 4910-13-P